DEPARTMENT OF LABOR

Employment and Training Administration

[TA-W-56,461 and TA-W-56,461A]

Teradyne, Inc., Currently Known as Amphenol TCS, a Division of Amphenol Corporation, Connectors and Backplane Assemblies Facility and Printed Circuit Board Facility, Including Leased Workers of Microtech Staffing Group, TAC Worldwide and Technical Needs, Nashua, NH; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility To Apply for Worker Adjustment Assistance and Alternative Trade Adjustment Assistance on March 10, 2005, applicable to workers of Teradyne, Inc., Teradyne Connection Systems (TCS), Connectors and Backplane Assemblies Facility and the Printed Circuit Board Facility, including leased workers of Microtech Staffing Group, TAC Worldwide, and Technical Needs, Nashua, New Hampshire. The notice was published in the Federal Register on April 1, 2005 (70 FR 16848-16849).

At the request of a company official, the Department reviewed the certification for workers of the subject firm. The workers at the Connectors and Backplane Assemblies Facility produce connectors and backplane assemblies; they are not separately identifiable by articles produced. Workers of the Printed Circuit Board Facility produce printed circuit boards.

The subject firm originally named Teradyne, Inc., Teradyne Connection Systems (TCS), was renamed Teradyne, Inc., Amphenol TCS, a Division of Amphenol Corporation on December 1, 2005, due to a change in ownership. The State agency reports that workers' wages at the subject firm are being reported under the Unemployment Insurance (UI) tax account for Teradyne, Inc., currently known as Amphenol TCS, a Division of Amphenol Corporation, Nashua, New Hampshire.

Accordingly, the Department is amending this certification to reflect a change in ownership.

The intent of the Department's certification is to include all workers of Teradyne, Inc., currently known as Amphenol TCS, a Division of Amphenol Corporation, Connectors and Backplane Assemblies Facility and the Printed Circuit Board Facility who were adversely affected by a shift in production to Mexico, Malaysia and China.

The amended notice applicable to TA-W-56,461 and TA-W-56,461A are hereby issued as follows:

All workers of Teradyne, Inc., currently known as Amphenol TCS, a Division of Amphenol Corporation, Connectors and Backplane Assemblies Facility, Nashua, New Hampshire (TA-W-56,461), and Teradyne, Inc., currently known as Amphenol TCS, A Division of Amphenol Corporation, Printed Circuit Board Facility, Nashua, New Hampshire (TA-W-56,461A) including leased workers of Microtech Staffing Group, TAC Worldwide, and Technical Needs engaged in activities related to the production of connectors and backplane assemblies workers at the Connectors and Backplane Assemblies Facility, Nashua, New Hampshire (TA-W-56,461) and workers engaged in activities related to the production of printed circuit boards working at the Printed Circuit Boards Facility, Nashua, New Hampshire (TA-W-56,461A) who became totally or partially separated from employment on or after January 31, 2004, through March 10, 2007, are eligible to apply for adjustment assistance under section 223 of the Trade Act of 1974, and are also eligible to apply for alternative trade adjustment assistance under section 246 of the Trade Act of 1974.

Signed at Washington, DC, this 14th day of December 2005.
Elliott S. Kushner,
Certifying Officer, Division of Trade Adjustment Assistance.

[FR Doc. E5-7952 Filed 12-27-05; 8:45 am]

BILLING CODE 4510-30-P